FEDERAL COMMUNICATIONS COMMISSION

Media Security and Reliability Council

AGENCY: Federal Communications Commission.

ACTION: Notice of meeting.

SUMMARY: In accordance with the Federal Advisory Committee Act, this notice advises interested persons of a meeting of the Media Security and Reliability Council (Council). The meeting will be held at the Federal Communications Commission in Washington, DC.

DATES: Tuesday, November 16, 2004 at 10 a.m. to 11:30 a.m.

ADDRESSES: Federal Communications Commission, 445 12th St. SW., Room TW-C305, Washington, DC 20554.

FOR FURTHER INFORMATION CONTACT: Barbara Kreisman at 202-418-1600 or TTY 202-418-7172.

SUPPLEMENTARY INFORMATION: The Council was established by the Federal Communications Commission to bring together leaders of the broadcast and multichannel video programming distribution industries and experts from consumer, public safety and other organizations to explore and recommend measures that would enhance the security and reliability of media facilities and services.

The Council will review the progress of its working groups. The Council may also discuss such other matters as come before it at the meeting. Members of the general public may attend the meeting. The Federal Communications Commission will attempt to accommodate as many people as possible. Admittance, however, will be limited to the seating available. The public may submit written comments before the meeting to Barbara Kreisman, the Commission's Designated Federal Officer for the Media Security and Reliability Council, by email bkreisma@fcc.gov or U.S. mail 2-A666, 445 12th St. SW., Washington, DC 20554. Real Audio and streaming video Access to the meeting will be available at http://www.fcc.gov/.

Reasonable accommodations for people with disabilities are available upon request. Include a description of the accommodation you will need including as much detail as you can. Also include a way we can contact you if we need more information. Please allow at least 5 days advance notice; last minute requests will be accepted, but may be impossible to fill. Send an e-mail to fcc504@fcc.gov or call the Consumer & Governmental Affairs Bureau: for sign language interpreters, CART and other reasonable accommodations: 202-418-0530 (voice), 202-418-0432 (TTY); for accessible format materials (Braille, large print, electronic files and audio format): 202-418-0531 (voice), 202-418-7365 (TTY).

Federal Communications Commission.
Barbara Kreisman,
Chief, Video Division, Media Bureau.

[FR Doc. 04-15989 Filed 7-14-04; 8:45 am]

BILLING CODE 6712-01-P